DEPARTMENT OF TRANSPORTATION

Federal Highway Administration

Environmental Impact Statement: Suffolk County, New York

AGENCY: Federal Highway Administration (FHWA), DOT.

ACTION: Notice of Intent.

SUMMARY: The FHWA is issuing this notice to advise the public that a NEPA environmental impact statement will be prepared for proposed highway project PIN 0041.97, NY 25 Reconstruction, County Road 83 to Coram—Mt. Sinai Road, Suffolk County, New York.

FOR FURTHER INFORMATION CONTACT: Thomas Oelerich, P.E., Acting Regional Director, New York State Department of Transportation, 250 Veterans Memorial Highway, Hauppauge, New York 11788, Telephone: (631) 952-6632. or Robert Arnold, Division Administrator, Federal Highway Administration, New York Division, Leo W. O'Brein Federal Building, 7th Floor, Room 719, Clinton Avenue and North Pearl Street, Albany, New York 12207, Telephone: (518) 431-4127.

SUPPLEMENTARY INFORMATION: The FHWA, in cooperation with the New York State Department of Transportation (NYSDOT), will prepare an environmental impact statement (EIS) on a proposal to improve NY Route 25 in Suffolk County, New York. The proposed improvement would involve the reconstruction of the existing route in the hamlet of Coram, Town of Brookhaven for a distance of 1.5 miles. The objectives of the project are: (1) To improve the safety of the roadway; (2) To improve the overall traffic conditions using cost effective methods to provide an acceptable level of service for the design period of 20 years while minimizing adverse environmental impacts; (3) To address geometric deficiencies to improve sight distance and traffic flow; (4) To reconstruct pavement to provide an acceptable riding surface within the project area for the design period; (5) To provide adequate pavement drainage to eliminate roadway flooding.

Alternatives under consideration include: (1) No Build; (2) Utilization of a five lane typical section (two lanes in each direction with either a continuous center turn lane or a raised center median with provisions for turns) and; (3) Split one way roadways, build new NY 25 eastbound on existing State property south of the existing NY 25 and retain the existing NY 25 as the reconstructed NY 25 westbound.

Letters describing the proposed action and soliciting comments will be sent to appropriate Federal, State, and local agencies, and to private organizations and citizens who have previously expressed interest in this proposal. In addition a Public Hearing will be held. Public notice will be given of the time and place of the meeting and hearings. The draft EIS will be available for public review and agency review and comment. A Public Information Center/Scoping Meeting will be held in the Activity Court of the Longwood Middle School located on Middle Island—Yaphank Road in Middle Island, N.Y., 11953 on Wednesday, June 12, 2002 from 4:00 pm to 8:00 pm.

To ensure that the full range of issues related to this proposed action are addressed and all significant issues identified, comments and suggestions are invited from all interested parties. Comments or questions concerning this proposed action and the EIS should be directed to the NYSDOT or FHWA at the address provided above.

Authority: 23 U.S.C. 315; 23 CFR 771.123.

(Catalog of Federal Domestic Assistance Program Number 20.205, Highway Research, Planning and Construction. The regulations implementing Executive Order 12372 regarding intergovernmental consultation on Federal programs and activities apply to this program.)
Issued on: May 16, 2002.
Douglas P. Conlan,
District Operations Engineer, Federal Highway Administration, New York Division, Albany, New York.

[FR Doc. 02-14403 Filed 6-7-02; 8:45 am]

BILLING CODE 4910-22-M